DEPARTMENT OF HEALTH AND HUMAN SERVICES

Health Resources and Services Administration

Agency Information Collection Activities: Submission to OMB for Review and Approval; Public Comment Request; Title: Health Resources and Service Administration Uniform Data System, OMB No. 0915-0193—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than March 4, 2019.

ADDRESSES: Submit your comments, including the Information Collection Request Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Health Resources and Service Administration Uniform Data System, OMB No. 0915-0193—Revision.

Abstract: HRSA utilizes the Uniform Data System (UDS) for annual reporting by certain HRSA award recipients, including Health Center Program awardees (those funded under section 330 of the Public Health Service (PHS) Act), Health Center Program look-alikes, and Nurse Education, Practice, Quality and Retention (NEPQR) Program awardees (specifically those funded under the practice priority areas of section 831(b) of the PHS Act).

Need and Proposed Use of the Information: HRSA collects UDS data annually to ensure compliance with legislative and regulatory requirements, improve clinical and operational performance, and report overall program accomplishments. These data help to identify trends over time, enabling HRSA to establish or expand targeted programs and to identify effective services and interventions that will improve the health of medically underserved communities. HRSA compares UDS data with other national, health-related data sets to compare HRSA award recipient patient populations and the overall U.S. population.

The UDS data collection will be revised in the following ways.

• Quality of Care Measures Alignment with the Centers for Medicare and Medicaid Services (CMS) electronic-specified clinical quality measures (eCQMs): Revise UDS clinical quality measures in accordance with the corresponding CMS eCQMs updates for 2019 calendar year reporting.

• Substance Use Disorder and Mental Health Services: Collect information regarding substance use disorder and mental health services by provider specialty to better assess which providers are delivering substance use disorder and behavioral health services; support investments in these priority areas; and better describe comprehensive, integrated models of care.

• Health Information Technology (health IT): Streamline and clarify health IT questions regarding utilization of health IT to include information sharing, patient engagement, quality improvement, and program evaluation and research.

• Statin Therapy for the Prevention and Treatment of Cardiovascular Disease: Replace the current non specified Coronary Artery Disease measure with an e-specified measure that aligns with the Centers for Disease Control and Prevention and the CMS Million Hearts® clinical quality measures relating to statin therapy.

• Telemedicine and Virtual Visits: Collect information on services provided via telemedicine and virtual visits by provider in order to capture the changing healthcare delivery landscape.

• Tenure for Health Center Staff: Retire Table 5A related to the tenure for staff.

• Workforce: Collect workforce related information, including workforce satisfaction and health professional training.

Likely Respondents: The respondents will likely include Health Center Program awardees, Health Center Program look-alikes, and NEPQR Program awardees funded under the practice priority areas of section 831(b) of the PHS Act.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Universal Report | 1,469 | 1 | 1,469 | 223 | 327,587
Grant Report | 574 | 1 | 574 | 30 | 17,220
Total | 2,043 |  | 2,043 |  | 344,807

Amy P. McNulty,
Acting Director, Division of the Executive Secretariat.

[FR Doc. 2019-00392 Filed 1-30-19; 8:45 am]

BILLING CODE 4165-15-P